DEPARTMENT OF THE INTERIOR

Bureau of Land Management

[LLES956000-L14200000-BJ0000]

Group No. 16, Illinois; Eastern States: Filing of Plat of Survey

AGENCY: Bureau of Land Management, Interior.

ACTION: Notice of filing of plat of survey; Illinois.

SUMMARY: The Bureau of Land Management (BLM) will file the plat of survey of the lands described below at the BLM-Eastern States office in Springfield, Virginia, 30 calendar days from the date of publication in the Federal Register.

FOR FURTHER INFORMATION CONTACT: Bureau of Land Management, 7450 Boston Boulevard, Springfield, Virginia 22153; Attn: Cadastral Survey.

SUPPLEMENTARY INFORMATION: This survey was requested by the U.S. Army Corps of Engineers, St. Louis District.

The lands we surveyed are:

Third Principal Meridian, Illinois

T. 4 N., R. 1 W.

The plat of survey represents an amended portion of the Carlyle Reservoir Acquisition boundary in Township 4 North, Range 1 West of the Third Principal Meridian, in the State of Illinois, and was accepted February 23, 2009. We will place a copy of the plat we described in the open files. It will be available to the public as a matter of information.

If BLM receives a protest concerning this survey, as shown on the plat, prior to the date of the official filing, we will stay the filing pending our consideration of the protest.

We will not officially file the plat until the day after we have accepted or dismissed all protests and they have become final, including decisions on appeals.

Dated: April 14, 2009.
Dominica Van Koten,
Chief Cadastral Surveyor.

[FR Doc. E9-8986 Filed 4-17-09; 8:45 am]

BILLING CODE 4310-GJ-P